DEPARTMENT OF HEALTH AND HUMAN SERVICES

Centers for Disease Control and Prevention

[Docket Number NIOSH-244]

Comments and Information Relevant to Mid Decade Review of NORA

AGENCY: Department of Health and Human Services (HHS), Centers for Disease Control and Prevention (CDC), National Institute for Occupational Safety and Health (NIOSH).

ACTION: Notice of Public Comment Period.

SUMMARY: The National Institute for Occupational Safety and Health (NIOSH) of the Centers for Disease Control and Prevention (CDC) is conducting a review of the processes of the National Occupational Research Agenda (NORA). In 2006, NORA entered its second decade with an industry sector-based structure. In 2011, as NORA reaches the halfway point of its second decade, NIOSH is conducting a review of NORA processes to learn how adjustments can be made to maximize outcomes through the remainder of the second decade (2012-2016). The goal is to look at NORA processes across the ten NORA industry sectors to provide an inter-sector perspective of the structure and progress of NORA to date. This is also an opportunity to obtain feedback on how to ensure that NORA realizes its full impact potential. We are interested in your comments on NORA processes; activities and accomplishments; and opportunities for adjustments for the future.

Public Comment Period: Comments must be received by August 31, 2011.

ADDRESSES: Written comments may be submitted to the NIOSH Docket Office, Robert A. Taft Laboratories, 4676 Columbia Parkway, MS-C34, Cincinnati, Ohio 45226. All material submitted should reference docket number NIOSH-244 and must be submitted by August 31, 2011 to be considered by the Agency. All electronic comments should be formatted in Microsoft Word. In addition, comments may be sent via e-mail to nioshdocket@cdc.gov or by facsimile to (513) 533-8285. A complete electronic docket containing all comments submitted will be available on the NIOSH Web page at http://www.cdc.gov/niosh/docket, and comments will be available in writing by request. NIOSH includes all comments received without change in the electronic docket, including any personal information.

FOR FURTHER INFORMATION CONTACT: Chia Chang, NIOSH, telephone (202) 245-0625, NORAmiddecade@cdc.gov.

Dated: July 13, 2011.
John Howard,
Director, National Institute for Occupational Safety and Health, Centers for Disease Control and Prevention.

[FR Doc. 2011-18753 Filed 7-22-11; 8:45 am]

BILLING CODE 4163-19-P